DEPARTMENT OF COMMERCE

Foreign-Trade Zones Board

[S-101-2022]

Foreign-Trade Zone 68—El Paso, Texas; Application for Expansion of Subzone 68A; Expeditors International of Washington, Inc.; El Paso, Texas

An application has been submitted to the Foreign-Trade Zones (FTZ) Board by the City of El Paso, grantee of FTZ 68, requesting expanded subzone status for the facilities of Expeditors International of Washington, Inc., located in El Paso, Texas. The application was submitted pursuant to the provisions of the Foreign-Trade Zones Act, as amended (19 U.S.C. 81a-81u), and the regulations of the FTZ Board (15 CFR part 400). It was formally docketed on June 22, 2022.

Subzone 68A was approved on March 5, 2013 (S-3-2013, 78 FR 15683, March 12, 2013). The subzone currently consists of the following sites: Site 1 (2.94 acres)—1450 Pullman Drive, El Paso; and Site 2 (4.02 acres)—1313 Don Haskins Drive, El Paso.

The applicant is requesting authority to expand the subzone to include an additional site in El Paso: Proposed Site 3 (24.318 acres)—1401 Pullman Drive, Suites A and B, El Paso. No authorization for production activity has been requested at this time. The proposed expanded subzone would be subject to the existing activation limit of FTZ 68.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is August 8, 2022. Rebuttal comments in response to material submitted during the foregoing period may be submitted during the subsequent 15-day period to August 22, 2022.

A copy of the application will be available for public inspection in the “Online FTZ Information Section” section of the FTZ Board's website, which is accessible via www.trade.gov/ftz.

For further information, contact Camille Evans at Camille.Evans@trade.gov.

Dated: June 23, 2022.
Andrew McGilvray,
Executive Secretary.

[FR Doc. 2022-13775 Filed 6-27-22; 8:45 am]

BILLING CODE 3510-DS-P